DEPARTMENT OF AGRICULTURE

Animal and Plant Health Inspection Service

[Docket No. APHIS-2008-0073]

Sirex Woodwasp; Availability of an Environmental Assessment

AGENCY: Animal and Plant Health Inspection Service, USDA.

ACTION: Notice of availability and request for comments.

SUMMARY: We are advising the public that an environmental assessment has been prepared by the Animal and Plant Health Inspection Service relative to a proposed biological control program for Sirex woodwasp. The environmental assessment documents our review and analysis of environmental impacts associated with the proposed biological control program. We are making this environmental assessment available to the public for review and comment.

DATES: We will consider all comments that we receive on or before August 20, 2008.

ADDRESSES: You may submit comments by either of the following methods:

• Federal eRulemaking Portal: Go to http://www.regulations.gov/fdmspublic/component/main?main=DocketDetail&d=APHIS-2008-0073 to submit or view comments and to view supporting and related materials available electronically.

• Postal Mail/Commercial Delivery: Please send two copies of your comment to Docket No. APHIS-2008-0073, Regulatory Analysis and Development, PPD, APHIS, Station 3A-03.8, 4700 River Road Unit 118, Riverdale, MD 20737-1238. Please state that your comment refers to Docket No. APHIS-2008-0073.

Reading Room: You may read any comments that we receive on the environmental assessment in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Ms. Lynn Evans-Goldner, Staff Officer, Emergency and Domestic Programs, PPQ, APHIS, 4700 River Road, Unit 137, Riverdale, MD 20737-1231; (301) 734-7228.

SUPPLEMENTARY INFORMATION:

Background

The Sirex woodwasp (Sirex noctilio Fabricius [Hymenoptera: Siricidae]) is a member of the horntail wasp family native to Europe, Asia, and northern Africa, where it is generally considered to be a secondary pest. In its native range, it attacks pines, such as Austrian (Pinus nigra), maritime (P. pinaster), and Scotch (P. sylvestris) pines, almost exclusively. While stressed trees are most at risk, Sirex woodwasp can also attack and kill healthy trees. Adult wasps are strong fliers and can naturally disperse up to 25 miles, especially when aided by strong winds. Sirex woodwasp can survive transportation in infested materials, such as logs, that are moved long distances and then be capable of infesting new areas. Because Sirex woodwasp inhabits the sapwood and larvae tunnel deep into host trees, this pest is difficult to detect with inspection.

Pines are the main hosts of Sirex woodwasp, which can complete its lifecycle on many species of pines. Thus far, in North America, jack pine (P. banksiana), red pine (P. resinosa), Scotch pine (P. sylvestris), and white pine (P. strobus) have served as hosts for Sirex woodwasp. In addition, Sirex woodwasp has been recorded on other conifers such as Douglas fir (Pseudotsuga spp.), fir (Abies spp.), larch (Larix spp.), and spruce (Picea spp.).

The first detection of a breeding population of the Sirex woodwasp in the United States was in 2004 in Oswego County, NY. As a result of surveys conducted in 2005, 2006, and 2007 by State and Federal officials, the Sirex woodwasp has been detected in additional counties in Michigan, New York, Pennsylvania, and Vermont.

In an environmental assessment prepared in March 2007, APHIS considered a program to control Sirex woodwasp in New York and Pennsylvania, the only States where Sirex woodwasp had been detected at that time. The environmental assessment evaluated four alternatives: No action, a quarantine program, a biological control program, and a combination of quarantine and biological control (preferred action) in New York and Pennsylvania. A finding of no significant impact was signed on June 21, 2007, in which APHIS determined that the proposed program (including quarantine and biological control) identified as the preferred action would not have a significant impact on the quality of the human environment in those States. Since that time, Sirex woodwasp has been detected in additional States, and APHIS would like to implement a biological control program in those States. In addition, if Sirex woodwasp were detected in other States, APHIS would want to implement a biological control program in those States, as well. Therefore, this environmental assessment considers the potential effects on the quality of the human environment from implementing a program for control of Sirex woodwasp in all of the currently infested States and in surrounding States where Sirex woodwasp would most likely be detected if it were to spread.

APHIS' review and analysis of the potential environmental impacts associated with this proposed biological control program are documented in detail in an environmental assessment entitled “Proposed Program for the Control of the Woodwasp Sirex noctilio F. (Hymenoptera: Siricidae) in the Northeastern United States” (May 2008). We are making this environmental assessment available to the public for review and comment. We will consider all comments that we receive on or before the date listed under the heading DATES at the beginning of this notice.

The environmental assessment may be viewed on the Regulations.gov Web site or in our reading room (see ADDRESSES above for a link to Regulations.gov and information on the location and hours of the reading room). You may request paper copies of the environmental assessment by calling or writing to the person listed under FOR FURTHER INFORMATION CONTACT. Please refer to the title of the environmental assessment when requesting copies.

The environmental assessment has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Done in Washington, DC, this 15th day of July 2008.
Kevin Shea,
Acting Administrator, Animal and Plant Health Inspection Service.

[FR Doc. E8-16585 Filed 7-18-08; 8:45 am]

BILLING CODE 3410-34-P